NATIONAL CREDIT UNION ADMINISTRATION

Modernizing Data Collection for Regulatory Oversight of Credit Unions: Extension of Comment Period

AGENCY: National Credit Union Administration.

ACTION: Extension of comment period.

SUMMARY: The National Credit Union Administration (NCUA) is extending the deadline for the submission of written comments in response to its June 7, 2016 Request for Information regarding modernizing data collection for regulatory oversight of credit unions.

DATES: Comments are now due no later than 5:00 p.m. Eastern Time on August 15, 2016.

ADDRESSES: Comments may be submitted using one of the methods below. (Please do not send comments via multiple methods.) Include “[Your name and company name (if any)]—Call Report/Profile Content Modernization” in all correspondence.

• Mail: Please direct written comments related to Call Report/Profile content modernization to Mark Vaughan, National Credit Union Administration, Office of Examination and Insurance, 1775 Duke Street, Alexandria, VA 22314.

• Email: Address to CallReportMod@ncua.gov. Any of the following formats is acceptable: HTML, ASCII, Word, RTF, or PDF.

NCUA will post all material received by the deadline on the agency Web site (www.ncua.gov) without alteration or redaction, so commenters should not include information they do not wish public (e.g., personal or confidential business information). SPAM or marketing materials will be discarded without publication.

FOR FURTHER INFORMATION CONTACT: Mark Vaughan, National Credit Union Administration, Office of Examination and Insurance, 1775 Duke Street, Alexandria, VA 22314, telephone (703) 518-6622, email mvaughan@ncua.gov. Media inquiries should be directed to the NCUA Office of Public and Congressional Affairs at (703) 518-6671 or pacamail@ncua.gov.

SUPPLEMENTARY INFORMATION: NCUA is conducting a comprehensive review of two vehicles used to collect information for regulatory oversight of federally insured credit unions—the 5300 Call Report and Form 4501A Profile. On June 7, 2016, NCUA issued a Request for Information seeking public input on several questions relating to that topic. See 81 FR 36600 (June 7, 2016). Due to the importance of this issue, and to ensure that commenters have sufficient time to respond, NCUA is extending the deadline for the submission of initial comments in response to the Request for Information to 5:00 p.m. Eastern Time on August 15, 2016.

Dated: June 22, 2016.
Gerard S. Poliquin,
Secretary of the Board.

[FR Doc. 2016-15166 Filed 6-27-16; 8:45 am]

BILLING CODE 7535-01-P